DEPARTMENT OF JUSTICE

National Institute of Corrections

Solicitation for a Cooperative Agreement—Sexual Safety in Women's Institutions

AGENCY: National Institute of Corrections, U.S. Department of Justice.

ACTION: Solicitation for a Cooperative Agreement.

SUMMARY: The National Institute of Corrections (NIC) is soliciting proposals from organizations, groups, or individuals to enter into a cooperative agreement for an 18-month period to begin no later than September 15, 2013. Work under this cooperative agreement will involve the development and piloting of a blended-learning curriculum, which could include the use of virtual instructor-led training (VILT), to address the safety of women inmates within correctional institutions. The audience for this curriculum represents correctional staff, volunteers, contractors, community stakeholders who work within women's correctional institutions, and community residential facilities. This project will be a collaborative venture with the NIC Community Services Division.

NIC Opportunity Number: 13CS10. This number should appear in the reference line in your cover letter, on Standard Form 424 in section 11 with the title of your proposal, and in the right justified header of your proposal.

Number of Awards and Funds Available: Under this solicitation, 1 (one) award will be made. The total amount of funds available under this solicitation is $80,000.00. Funds awarded under this solicitation may only be used for activities directly related to the project as described herein unless otherwise amended in writing by NIC.

Applications: All applicants must be submitted electronically via http://www.grants.gov. Hand delivered, mailed, faxed, or emailed applications will not be accepted.

DATES: Application must be submitted before midnight on Tuesday, July 16, 2013.

Authority: Public Law 93-415.

Eligibility of Applicants: An eligible applicant is any public or private agency, educational institution, organization, individual or team with expertise in the described areas.

SUPPLEMENTARY INFORMATION:

Background: In 2006 the National Institute of Justice (NIJ) funded a study titled “Gendered Violence and Safety: A Contextual Approach to Improving Security in Women's Facilities.” More recently, the National Institute of Corrections funded the Prison Rape Elimination Act (PREA) Validation Project for Improving Safety in Women's Facilities (cooperative agreement #10PEI34GKB6), which further contributed to the body of work addressing this issue. Sandwiched between those efforts has been the release of the PREA National Standards to Prevent, Detect, and Respond to Prison Rape, released in 2012, which has significant implications for correctional settings housing women and girls. A collection of standards comparison materials is available on the Web at the following locations: http://nicic.gov/Library/026085; http://nicic.gov/Library/026082; http://nicic.gov/Library/026083; http://nicic.gov/Library/026084. Over the past few decades, through research efforts and improved practice, the corrections profession has had access to a great deal of information, which has influenced continuing research efforts, training, assessment and classification, development of program models, and the creation of promising practices specific to improving system outcomes and individual outcomes for justice-involved women. While many current practices within criminal justice are seen as applicable to both justice-involved men and women, more recently the corrections profession has had opportunities to sharpen practice and more effectively manage resources in working with women in correctional settings.

Scope of Work: The awardee must develop a blended learning curriculum, including the piloting of the curriculum. The curriculum must use a variety of delivery methodologies, which could include readings, case study review, webinars, onsite delivery, and pre- and post-training activities. A virtual instructor-led training format will be considered if it can be demonstrated that the transfer of knowledge to the participants is effective. Awardees should develop the materials specific to physical and sexual safety in women's correctional facilities, based on current research, knowledge, best practice, and reflective of the experiences of corrections professionals and the target population. It should also include outlined method(s) for the transfer of learning, opportunities for skills practice, follow up coaching/assistance, and a method to measure the effectiveness of the training curriculum. The deliverables will help advance and foster professional correctional environments while enhancing safety and security and positively influencing systems, staff, and justice-involved women.

Deliverables: Tasks to be performed through this cooperative agreement include: (1) Conducting a literature search to contribute to curriculum development (2) convening a working session at an approved location; designing the working agenda; providing facilitation; and using content from the session to inform project deliverables. Working session participants will be identified in collaboration with and upon the approval of the NIC project staff. (3) working with NIC project staff and designated experts to develop deliverables. Deliverables could include a facilitator's manual and participant workbook, audiovisual materials, supplemental readings, pre/post measures of learning and other materials that facilitate learning. (4) developing and delivering the final curriculum modeled on the instructional theory into practice format (5) creating a final report that summarizes the project.

FOR FURTHER INFORMATION CONTACT: All technical or programmatic questions concerning this announcement should be directed to Maureen Buell, Correctional Program Specialist, National Institute of Corrections, who may be reached by email at mbuell@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” (13CS10) and title in this announcement, “Sexual Safety in Women's Institutions.” The package must include: a cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf. Failure to supply all required forms with the application package may result in disqualification of the application from consideration.

Note: NIC will NOT award a cooperative agreement to an applicant who does not have a Dun and Bradstreet Database Universal Number (DUNS) and is not registered in the Central Contractor Registry (CCR). A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished to include the overall project goal(s), major tasks to achieve the goal(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to achieve all project tasks? Does the proposal contain project management and staffing plans that are realistic and sufficient to complete the project within the project time frame?

Project Management/Administration (25%)

Does the applicant identify reasonable objectives, milestones, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions; Subpart C, Functional Performance Criteria; and Subpart D, Documentation and Support. NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.601. You are not subject to Executive Order 12372 and should check box b under section 16.

Robert M. Brown, Jr.,
Acting Director, National Institute of Corrections.

[FR Doc. 2013-16014 Filed 7-2-13; 8:45 am]

BILLING CODE 4410-36-P